DEPARTMENT OF JUSTICE

Immigration and Naturalization Service

[AG Order No. 2645-2003]

Permission for Certain Nonimmigrant Aliens From Designated Countries To Register in a Timely Fashion

AGENCY: Immigration and Naturalization Service, Justice.

ACTION: Notice.

SUMMARY: This Notice reopens the registration periods noticed in the Federal Register on November 6, 2002, 67 FR 67766, and November 22, 2002, 67 FR 70526, to permit citizens or nationals of Afghanistan, Algeria, Bahrain, Eritrea, Iran, Iraq Lebanon, Libya, Morocco, North Korea, Oman, Qatar, Somalia, Sudan, Syria, Tunisia, United Arab Emirates, or Yemen who were required to register under those notices but did not do so, to appear before, register with, and provide requested information to the Immigration and Naturalization Service between January 27, 2003, and February 7, 2003. Registration during this period shall be considered timely under the original notices.

EFFECTIVE DATES: This notice is effective on January 27, 2003. Aliens described in this notice may register and provide additional information to the Immigration and Naturalization Service on or before February 7, 2003.

FOR FURTHER INFORMATION CONTACT: Dan Brown, Office of the General Counsel, Immigration and Naturalization Service, 425 I Street, NW., Room 6100, Washington, DC 20536, telephone (202) 514-2895.

SUPPLEMENTARY INFORMATION: Section 265(b) of the Immigration and Nationality Act (“Act”), as amended, 8 U.S.C. 1305(b), provides that

[t]he Attorney General may in his discretion, upon 10 days notice, require the natives of any one or more foreign states, or any class or group thereof, who are within the United States and who are required to be registered under this subchapter, to notify the Attorney General of their current addresses and furnish such additional information as the Attorney General may require.

Additionally, section 263(a) of the Act, 8 U.S.C. 1303(a), provides that the Attorney General may “prescribe special regulations and forms for the registration and fingerprinting of * * * aliens of any other class not lawfully admitted to the United States for permanent residence.”

The Attorney General has previously exercised his authority under these and other provisions of the Act to establish special registration procedures under 8 CFR 264.1(f). 67 FR 52584 (Aug. 12, 2002). These requirements are known as the National Security Entry—Exit Registration System (“NSEERS”). In accordance with the authority set forth in 8 CFR 264.1(f)(4), the Attorney General required certain nonimmigrant aliens who are nationals or citizens of Afghanistan, Algeria, Bahrain, Eritrea, Iran, Iraq Lebanon, Libya, Morocco, North Korea, Oman, Qatar, Somalia, Sudan, Syria, Tunisia, United Arab Emirates, or Yemen to register and provide specific information to the Immigration and Naturalization Service. See 67 FR 67766 (Nov. 6, 2002); 67 FR 70526 (Nov. 22, 2002) (the “Groups I and II Notices”).

Subsequent events have indicated that some number of individuals affected by the Groups I and II Notices remained unaware of the requirements of the notices, despite the publication of the notices in the Federal Register and the efforts of the Department to publicize the requirements. As an act of grace, and as an act that is entirely within the Attorney General's discretion, the Attorney General has decided to permit those individuals who were required to register under the Groups I and II Notices but who did not do so, an additional opportunity to register and provide information in a timely fashion. This exercise of discretion does not apply to an alien who was not covered by the Groups I and II Notices. Given the publication of multiple notices relating to other countries issued subsequent to the Groups I and II Notices, and the attendant publicity about NSEERS, aliens who are covered by other notices are not being, and should not expect to be, afforded an additional opportunity to comply with the requirements of the relevant notice.

Notice of Requirements for Registration of Certain Nonimmigrant Aliens From Designated Countries

Pursuant to sections 261 through 266 of the Immigration and Nationality Act (“Act”), as amended, 8 U.S.C. 1302 through 1306, and particularly sections 263(a) and 265(b) of the Act, 8 U.S.C. 1303(a) and 8 U.S.C. 1305(b), and 8 CFR 264.1(f), and as a matter of discretion only, I hereby order that a national or citizen of Afghanistan, Algeria, Bahrain, Eritrea, Iran, Iraq, Lebanon, Libya, Morocco, North Korea, Oman, Qatar, Somalia, Sudan, Syria, Tunisia, United Arab Emirates, or Yemen, who was required to register and provide information to the Immigration and Naturalization Service pursuant to the notices published in the Federal Register at 67 FR 67766 on November 6, 2002, and at 67 FR 70526 on November 22, 2002, and who did not do so, may do so between January 27, 2003, and February 7, 2003, inclusive, and that such registration will be considered to have been made in a timely fashion.

Dated: January 14, 2003.
John Ashcroft,
Attorney General.

Appendix: Immigration and Naturalization Service, Offices for Registration of Certain Nonimmigrants Pursuant to Notice of January 16, 2003

Alaska—Anchorage, 620 East 10th Avenue, Anchorage, Alaska 99501.

Arizona—Phoenix, 2035 North Central Avenue, Phoenix, Arizona 85004.

Arizona—Tucson, 6431 South Country Club Road, Tucson, Arizona 85706-5907.

Arkansas—Fort Smith, 4991 Old Greenwood Road, Fort Smith, Arkansas 72903.

California—Fresno, 865 Fulton Mall, Fresno, California 93721.

California—Los Angeles, 300 North Los Angeles Street, Room 2024, Los Angeles, California 90012.

California—Sacramento, 650 Capitol Mall, Sacramento, CA 95814.

California—San Bernardino, 655 West Rialto Avenue, San Bernardino, California 92410.

California—San Diego, 880 Front Street, Suite 1209, San Diego, California 92101.

California—San Francisco, 444 Washington Street, San Francisco, California 94111.

California—San Jose, 1887 Monterey Road, San Jose, California 95112.

California—Santa Ana, 34 Civic Center Plaza, Santa Ana, California 92701.

Colorado—Denver, 4730 Paris Street, Denver, CO 80239.

Connecticut—Hartford, 450 Main Street, 4th Floor, Hartford, Connecticut 06103.

Florida—Jacksonville, 4121 Southpoint Boulevard, Jacksonville, Florida 32216.

Florida—Miami, 7880 Biscayne Boulevard, Miami, Florida 33138.

Florida—Orlando, 9403 Tradeport Drive, Orlando, Florida 32827.

Florida—Tampa, 5524 West Cypress Street, Tampa, Florida 33607-1708.

Florida—West Palm Beach, 326 Fern Street, Riviera Beach, Florida 33401.

Georgia—Atlanta, 77 Forsyth Street, SW., Atlanta, Georgia 30303.

Guam—Agana, Sirena Plaza, Suite 100, 108 Hernan Cortez Avenue, Hagatna, Guam 96910.

Hawaii—Honolulu, 595 Ala Moana Boulevard, Honolulu, Hawaii 96813.

Idaho—Boise, 1185 South Vinnell Way, Boise, Idaho 83709.

Illinois—Chicago, 230 South Dearborn, 2nd Floor, Chicago, Illinois 60604.

Indiana—Indianapolis, 950 N. Meridian Street, Room 400, Indianapolis, Indiana 46204.

Iowa—Des Moines, 210 Walnut Street, Room 369, Des Moines, Iowa 50309.

Kansas—Wichita, 271 West 3rd Street North, Suite 1050, Wichita, Kansas 67202-1212.

Kentucky—Louisville, 601 West Broadway, Room 390, Louisville, Kentucky 40202.

Louisiana—New Orleans, 701 Loyola Avenue, New Orleans, Louisiana 70113.

Maine—Portland, 176 Gannet Drive, South Portland, Maine 04106.

Maryland—Baltimore, 31 Hopkins Place, Baltimore, Maryland 21201.

Massachusetts—Boston, Government Center, JFK Federal Building, Boston, Massachusetts 02203.

Michigan—Detroit, 333 Mount Elliot Street, Detroit, Michigan 48207-4381.

Minnesota—Minneapolis, 2901 Metro Drive, Suite 100, Bloomington, Minnesota 55425.

Missouri—Kansas City, 9747 Northwest Conant Avenue, Kansas City, Missouri 64153.

Missouri—St. Louis, 1222 Spruce Street, St. Louis, Missouri 63103.

Montana—Helena, 2800 Skyway Drive, Helena, Montana 59601.

Nebraska—Omaha, 3736 South 132nd Street, Omaha, Nebraska 68144.

Nevada—Las Vegas, 3373 Pepper Lane, Las Vegas, NV 89120-2739.

Nevada—Reno, 1352 Corporate Boulevard, Reno, Nevada 85902.

New Hampshire—Manchester, 803 Canal Street, Manchester, New Hampshire 03101.

New Jersey—Cherry Hill, 1886 Greentree Road, Cherry Hill, New Jersey 08003.

New Jersey—Newark, 970 Broad Street, Newark, New Jersey 07102.

New Mexico—Albuquerque, 1720 Randolph Road, SE., Albuquerque, New Mexico 87106.

New York—Albany, 1086 Troy-Schenectady Road, Latham, New York 12110.

New York—Buffalo, 130 Delaware Avenue, Buffalo, New York 14202.

New York—New York City, 26 Federal Plaza, New York, New York 10278.

North Carolina—Charlotte, 210 E. Woodlawn Road, Building 6, Suite 138, Charlotte, North Carolina 28217.

Ohio—Cincinnati, 550 Main Street, Room 4001, Cincinnati, Ohio 45202.

Ohio—Cleveland, 1240 East Ninth Street, Cleveland, Ohio 44199.

Ohio—Columbus, 50 West Broad Street, Suite 304D, Columbus, Ohio 43215.

Oklahoma—Oklahoma City, 4149 Highline Boulevard, Suite 300, Oklahoma City, Oklahoma 73108.

Oregon—Portland, 511 Northwest Broadway, Portland, Oregon 97209.

Pennsylvania—Philadelphia, 1600 Callowhill Street, Philadelphia, Pennsylvania 19130.

Pennsylvania—Pittsburgh, 1000 Liberty Avenue, Room 214, Pittsburgh, Pennsylvania 15222.

Puerto Rico—San Juan, 7 Tabonuco Street, Guaynabo, Puerto Rico 00968.

Rhode Island—Providence, 200 Dyer Street, Providence, Rhode Island 02903.

St. Croix—Christiansted, Sunny Isle Shopping Center, Christiansted, St. Croix, U. S. Virgin Islands 00820.

St. Thomas—Charlotte, Amalie Nisky Center, Suite 1A, First Floor South, Charlotte Amalie, St. Thomas, U. S. Virgin Islands 00802.

South Carolina—Charleston, 170 Meeting Street, Fifth Floor, Charleston, South Carolina 29401.

South Carolina—Greer, 142-D West Philips Road, Greer, South Carolina 29650.

Tennessee—Memphis, 1314 Sycamore View Road, Suite 100, Memphis, Tennessee 38134.

Texas—Dallas, 8101 North Stemmons Freeway, Dallas, Texas 75247.

Texas—El Paso, 1545 Hawkins Boulevard, El Paso, Texas 79925.

Texas—Harlingen, 2102 Teege Avenue, Harlingen, Texas 78550-4667.

Texas—Houston, 126 Northpoint Drive, Houston, Texas 77060.

Texas—San Antonio, 8904 Fourwinds Drive, San Antonio, Texas 78239.

Utah—Salt Lake City, 5272 South College Drive, #100, Murray, Utah 84123.

Vermont—St. Albans, 64 Gricebrook Road, St. Albans, Vermont 05478.

Virginia—Norfolk, 5280 Henneman Drive, Norfolk, Virginia 23513.

Washington, DC, 4420 North Fairfax Drive, Arlington, Virginia 22203.

Washington—Seattle, 815 Airport Way, South, Seattle, Washington 98134.

Washington—Spokane, 920 W. Riverside Room 691, Spokane, Washington 99201.

Washington—Yakima, 417 E. Chestnut, Yakima, Washington 98901.

West Virginia—Charleston, 210 Kanawha Boulevard West, Charleston, West Virginia 25302.

Wisconsin—Milwaukee, 310 East Knapp Street, Milwaukee, Wisconsin 53202.

For further information relating to this notice and information about local office hours and locations, the public may call the National Customer Service Center at 1-800-375-5283 or (TTY) 1-800-767-1833, or visit the INS Web site at http://www.ins.gov/.

[FR Doc. 03-1163 Filed 1-15-03; 8:45 am]

BILLING CODE 4410-10-P